ENVIRONMENTAL PROTECTION AGENCY

[EPA-HQ-OW-2016-0150; FRL-9956-09-OW]

General Permit for Ocean Disposal of Marine Mammal Carcasses

AGENCY: Environmental Protection Agency (EPA).

ACTION: Notice of availability of final general permit.

SUMMARY: The Environmental Protection Agency (EPA) is issuing a general permit to authorize the transport of marine mammal carcasses from the United States and disposal of marine mammal carcasses in ocean waters. Permit authorization is available for any officer, employee, agent, department, agency, or instrumentality of federal, state, tribal, or local unit of government, as well as any Marine Mammal Health and Stranding Response Program (MMHSRP) Stranding Agreement Holder, and any Alaskan Native, who already may take a marine mammal under the Marine Mammal Protection Act (MMPA) and Endangered Species Act (ESA). The EPA's purpose in issuing a general permit is to expedite required authorizations for the ocean disposal of marine mammal carcasses that otherwise currently require the issuance of an emergency permit.

DATES: This general permit is effective January 5, 2017.

ADDRESSES: This permit is identified as Docket No. EPA-HQ-OW-2016-0150. The record is closed but available for inspection from 9 a.m. to 4 p.m., Monday through Friday, excluding legal holidays, at the Water Docket, 1301 Constitution Avenue NW., Room B-135, Washington, DC 20460. For access to docket materials, call 202-566-2426, to schedule an appointment.

FOR FURTHER INFORMATION CONTACT: Brian Rappoli, Ocean and Coastal Protection Division, Office of Water, 4504T, Environmental Protection Agency, 1200 Pennsylvania Avenue NW., Washington, DC 20460; telephone number: 202-566-1548; fax number: 202-566-1546; email address: rappoli.brian@epa.gov.

SUPPLEMENTARY INFORMATION:

I. General Information

A. Does this action apply to me?

The general permit authorization is available for any officer, employee, agent, department, agency, or instrumentality of federal, state, tribal, or local unit of government, as well as any MMHSRP Stranding Agreement Holder, and any Alaskan Native, who already may take a marine mammal under the MMPA and ESA, to transport from the United States and dispose of a marine mammal carcass in ocean waters.

B. Does this action require the disposal of marine mammal carcasses in ocean waters?

The general permit does not require ocean disposal; it merely authorizes ocean disposal when there is a need for such disposals.

II. Federal Law and International Conventions

The EPA establishes general terms of authorization under Title I of the Marine Protection, Research, and Sanctuaries Act (MPRSA), sometimes referred to as the Ocean Dumping Act, for the ocean disposal of the marine mammal carcasses. As defined under the MMPA, which is relevant for the purposes of this permit as explained later, the term “marine mammal” means any mammal that is morphologically adapted to the marine environment (including sea otters and members of the orders Sirenia, Pinnipedia, and Cetacea) or primarily inhabits the marine environment (e.g., polar bears). Other than for Alaskan Natives who would engage in subsistence uses, EPA does not anticipate that ocean disposal will be necessary for marine mammal carcasses except in unusual circumstances, such as but not limited to (1) beached and floating whale or large pinniped carcasses and (2) mass strandings of other marine mammals.

Transportation for the purpose of disposal of any material in the ocean requires authorization under the MPRSA. In the past, the EPA has permitted the ocean disposal of cetacean (whales and related species) and pinniped (seals and related species) carcasses on a case-by-case basis, with emergency permits. The terms of this general permit are based on the EPA's past emergency permitting and will enable more timely authorization of such ocean disposals. The general permit applies to the transport of marine mammal carcasses from the United States for the purpose of ocean disposal.

Living marine mammals are protected by federal law, including the MMPA, the ESA, the Whaling Convention Act (WCA), the Fur Seal Act, and international conventions, including the International Convention for the Regulation of Whaling, which established the International Whaling Commission (IWC), and the Convention on International Trade in Endangered Species of Wild Fauna and Flora. Although the general permit applies only to marine mammal carcasses, certain IWC regulations are nevertheless relevant. Specifically, IWC regulations recognize that indigenous or aboriginal subsistence whaling is not the same as the commercial whaling that is subject to the IWC's whaling moratorium. As relevant to subsistence whaling in the United States, the IWC sets catch limits for the Western Arctic stock of bowhead whales based upon the needs of Native hunters in Alaskan villages. The hunt is managed cooperatively by the National Marine Fisheries Service (NMFS) and the Alaska Eskimo Whaling Commission under the WCA and the MMPA.

The Stranding Response Program of the NMFS and MMHSRP Stranding Agreement Holders are provided authority under this general permit because Stranding Agreement Holders are authorized to take marine mammals subject to the provisions of the MMPA (16 U.S.C. 1361 et seq.), the Regulations Governing the Taking and Importing of Marine Mammals (50 CFR part 216), the Endangered Species Act of 1973, as amended (16 U.S.C. 1531 et seq.), the Regulations Governing the Taking, Importing, and Exporting of Endangered and Threatened Fish and Wildlife (50 CFR parts 222-226), and/or the Fur Seal Act of 1966, as amended (16 U.S.C. 1151 et seq.). As such, MMHSRP Stranding Agreement Holders may have a need for ocean disposal should stranded marine mammals die.

III. Strandings and Beachings

Marine mammals that have died or have become sick or injured reach the ocean shoreline by a variety of mechanisms. Possible mechanisms include: Beaching, which involves a marine mammal carcass being driven ashore by currents or winds; stranding (single or multiple) of live marine mammal(s) that subsequently die; and transport on the bow of vessels. In most stranding cases, the causes of marine mammal strandings are unknown, but some causes may include: Disease, parasite infestation, harmful algal blooms, injuries due to ship strikes, fishery entanglements, pollution exposure, unusual weather or oceanographic events, trauma, and starvation. While many cetaceans and pinnipeds die every year, most carcasses never reach the shore; rather, the carcasses are consumed by other organisms or decompose sufficiently to sink to the ocean bottom where, depending upon size, the carcass may form the basis of an “organic fall” (e.g., kelp, wood, and whale falls) ecosystem.

Stranding or beaching events may pose a risk to public health due to the potential for transfer to the public of communicable diseases (e.g., brucellosis, poxvirus and mycobacteriosis) from cetacean or pinniped carcasses. Cetacean or pinniped carcasses present a significant disposal concern due not only to the size of some carcasses but also due to the frequency with which carcasses reach the shoreline. For example, between February 2010 and February 2014, over 1000 cetacean carcasses were found along the coast of the northern Gulf of Mexico.

IV. Hazard to Public Safety and Navigation

A floating carcass near shore may pose a risk to public safety before making land fall to the extent it might attract predators (e.g., sharks) to a recreation use area in nearby waters. Floating carcasses near shore (e.g., in a harbor) also may pose a hazard to navigation. Per regulations promulgated by the Army Corps of Engineers, at 33 CFR 245.20, the determination of a navigation hazard is made jointly by the Army Corps of Engineers and the U.S. Coast Guard (USCG). If such a determination is made, the Army Corps of Engineers determines appropriate remedial action as described in section 245.25, which may include removal of the carcass(es). Permit authorization to transport for the purpose of ocean disposal will be available if the removal operation requires ocean disposal of such carcasses.

V. Disposal and Management Options

For a dead marine mammal found along the shore, generally available options for marine mammal carcass disposal and management include: Allowing the carcass to decompose in place; burial in place; transportation to a landfill; incineration; and towing to sea for ocean disposal. Additional disposal options, such as rendering, composting, and alkaline hydrolysis, will depend on the availability of appropriate facilities. Selection of an option will depend upon factors such as carcass size, number of carcasses, availability of local resources, and/or location. This general permit concerns only the towing to sea for ocean disposal option.

A. In-Place Decomposition

Allowing a carcass to decompose in place may be an acceptable option if the location of the carcass is on a remote portion of the shoreline that is sufficiently distant from population centers so that the carcass does not pose a risk for public health and animal health, or result in unacceptable olfactory or visual aesthetic impacts. This option may be the most practical when the carcass is located in an area that is inaccessible to heavy equipment, thereby making other options, such as burying in place or moving to a landfill, infeasible.

B. In-Place and Landfill Burial

Burial of a carcass may be used as a disposal option, especially when the carcass is located near population centers or near areas used for recreational activities. A carcass may be buried near where the animal strands or beaches, usually above the high water mark, or transported inland for disposal, for example, at a municipal landfill. Disposal by trench burial involves excavating a trough, placing the carcass in the trench, and covering the carcass with the excavated material. The burial disposal option depends on the availability of appropriate excavation equipment but may be limited by potential environmental damage (e.g., destruction of dunes, beach grass, or nesting sites) caused by the transportation and operation of excavation equipment. While burial may be a cost-effective option for carcass disposal, it may not necessarily eliminate disease agents and disease transmission vectors that may be present, consequently posing a potential risk to human health and animal health.

C. Incineration

The incineration option for carcass disposal, which includes both open-air burning and fixed-facility incineration, offers an advantage in terms of pathogen destruction. However, due to the high water content of marine mammal carcasses, incineration costs may limit this option to small carcasses. While open-air burning of carcasses may yield a relatively benign ash, the amount of particulate matter and pyrogenic compounds released to the atmosphere by open-air burning may be significant and may require authorization (or may be prohibited) under state or local air pollution control laws. Additionally, the EPA presumes that open-air burning may require the use of hydrocarbon fuels, which could result in contamination of the underlying soil. Fixed-facility incinerators, which include small and large incineration facilities, crematoria, and power plant incinerators, offer the advantage of being regulated facilities that meet local and/or federal emission standards; however, the use of the fixed-facility option depends upon the transportability of the carcass.

D. Ocean Disposal

Sometimes, the only available carcass disposal option is towing to sea for ocean disposal. Ocean disposal may be appropriate after consideration and exhaustion of land-based alternatives, provided that an acceptable ocean dumping site can be identified, for example, where the release point is sufficiently far offshore that currents and winds are not expected to return the carcass to shore, and the carcass is not expected to pose a hazard to navigation. Positive buoyancy of the carcass may occur, depending on the time elapsed, due to the natural progression of the decomposition process. Consequently, appropriate carcass preparation (e.g., attachment of weights) may be necessary if the carcass must be sunk, rather than released, at the ocean disposal site so that the carcass will not return to shore or pose a hazard to navigation.

VI. Potential Consequences of Marine Mammal Carcass Disposal in the Ocean

Most deep-sea benthic ecosystems are organic-carbon limited and, in many cases, are dependent upon organic matter from surface waters. A sunken carcass provides a large load of organic carbon to the sea floor. These local enrichments of the sea floor result in the establishment of specialized assemblages. Large organic falls occur naturally on the sea floor. Over 20 macro faunal species are known to exclusively inhabit the microenvironment formed by large organic falls and over 30 other macro faunal species are known to inhabit these sites.

The deep-sea benthic ecosystem response to whale falls has been the subject of scientific study and several stages of succession have been observed in the assemblages. The duration of these stages varies greatly with carcass size. The first stage is marked by the formation of bathyal scavenger assemblages that include hagfishes, sleeper sharks, crabs, and amphipods. During the second stage, sediments surrounding the carcass, which have become enriched with organic carbon, become colonized by high densities of worms (e.g., Dorvilleidae, Chrysopetalidae). Once the consumption of soft tissue is complete, decomposition proceeds dominantly via anaerobic microbial digestion of bone lipids. The efflux of sulfides from the bones may, depending upon the size of the skeleton, provide for the formation of chemoautotrophic assemblages, which is the third stage of succession. These chemoautotrophic assemblages consist of organisms such as heterotrophic bacteria, mussels, snails, worms, limpets, and amphipods.

Considering the available scientific information on organic falls, the EPA finds that the potential effects of carcass disposal are minimal for the following reasons: (1) Except for happenstance, cetacean and pinniped carcasses would sink to the ocean floor rather than wash ashore; (2) the formation of an organic fall is a naturally occurring phenomenon with no known adverse environmental impacts; and (3) towing or other transportation of a carcass to sea for ocean disposal, when other disposal options are not viable, presents a minimal perturbation to a naturally occurring phenomenon.

The EPA's findings are consistent with the statutory considerations applicable to permit issuance under the MPRSA because: The general permit requires consideration of land-based alternatives; carcass disposal will not significantly affect human health, fisheries resources, or marine ecosystems; and carcass disposal will not result in permanent adverse effects.

VII. Regulatory Background

MPRSA Section 102(a)(1), 33 U.S.C. 1412(a)(1), requires a permit for any person to transport any material from the United States for the purpose of dumping into ocean waters; Section 102(a)(2) requires that agencies or instrumentalities of the United States obtain a permit in order to transport any material from any location for the purpose of ocean dumping. MPRSA Section 104(c), 33 U.S.C. 1414(c), and the EPA regulations at 40 CFR 220.3(a) authorize the issuance of a general permit under the MPRSA for the dumping of materials which have a minimal adverse environmental impact and are generally disposed of in small quantities. The towing (or other transportation) of a marine mammal carcass by any person for disposal at sea constitutes transportation of material for the purpose of dumping in ocean waters, and thus is subject to the MPRSA. Because the material to be disposed will consist of the carcass or carcasses, there will be no materials present that are prohibited by 40 CFR 227.5.

VIII. Consideration of Alaskan Natives Engaged in Subsistence Uses

The general permit includes specific considerations that apply to Alaskan Native persons engaged in subsistence uses. For purposes of this general permit, EPA intends the term “Alaskan Native” to be based on the statutory term defined at 16 U.S.C. 1371(b) that refers to “any Indian, Aleut, or Eskimo who resides in Alaska and who dwells on the coast of the North Pacific Ocean or the Arctic Ocean” who takes a marine mammal for subsistence purposes or for purposes of creating and selling authentic native articles of handicrafts and clothing and provided such taking is not in a wasteful manner.

The general permit authorizes ocean disposal of marine mammal carcasses by an Alaskan Native engaged in subsistence uses for two reasons. First, marine mammals are comparatively abundant and widely distributed throughout coastal Alaska, and Alaskan Natives depend upon these natural resources for many customary and traditional uses. Collectively, these customary and traditional uses (e.g., food, clothing) are referred to as “subsistence uses.” Alaskan Native subsistence uses of marine mammals have been ongoing for thousands of years. More recently, the United States has recognized the importance of subsistence uses of marine mammals by Alaskan Natives through enactment of the MMPA, which expressly exempts Alaskan Natives engaged in subsistence uses from the general prohibition on “taking” marine mammals under certain circumstances (16 U.S.C. 1371(b)). The MPRSA, by comparison, does not include a similar exemption for the transport and disposal in ocean waters by Alaskan Natives when marine mammal carcasses (or parts thereof) have no further use for subsistence purposes. The general permit accommodates the absence of a similar exemption by facilitating authorization of ocean disposal of marine mammals by Alaskan Natives.

Second, many coastal communities of Alaskan Natives engaged in subsistence uses are in remote locations and thus face a time-critical public safety issue, for example, when a marine mammal carcass washes ashore near a village or town, or a marine mammal is harvested or salvaged and the carcass is hauled ashore near a village or town. Such carcasses may attract bears or other scavenger animals, which may increase the risk of human injury or mortality. For these reasons, it would be prudent to expedite the removal and, if necessary, ocean disposal of such carcasses as soon as practical.

With these considerations in mind, EPA's intent in developing the Alaskan Native-specific permit conditions (see Section B) is, to the maximum extent allowable, to avoid unnecessary interference with long-standing subsistence uses and traditional cultural practices, and to recognize the unique circumstances faced by Alaskan Natives engaged in subsistence uses. In issuing this general permit, the EPA does not intend to change, alter or otherwise affect subsistence uses of marine mammals by Alaskan Natives engaged in subsistence uses. Section B sets forth requirements designed to address these considerations while also complying with the MPRSA and the EPA's accompanying regulations at 40 CFR Subchapter H. The primary differences between Sections A and B relate to federal agency concurrence, distance from land requirements for ocean disposal, and reporting requirements.

To further clarify, the general permit does not in any way require ocean disposal of marine mammal carcasses; it merely authorizes ocean disposal of marine mammal carcasses when there is a need for such disposals. Additionally, the general permit is not intended to and does not regulate: Any subsistence activities of Alaskan Natives, including hunting, harvesting, salvaging, hauling, dressing, butchering, distribution and consumption of marine mammals (or any other species used for subsistence purposes); the transportation and dumping of marine mammal carcasses on land, such as in whale boneyards or in inland waters (i.e., waters that are landward of the baseline of the territorial sea, such as rivers, lakes and certain enclosed bays or harbors); or leaving marine mammal carcasses to decompose in place on sea ice (or in a hole or lead in the sea ice), where there is no transportation by vessel or other vehicle for the purpose of ocean disposal. The purpose of this general permit is to expedite required authorizations that EPA otherwise currently manages through the issuance of an emergency permit for the ocean disposal of marine mammal carcasses.

IX. Discussion

Considering the information presented in the previous section, the EPA determines that the potential adverse environmental impacts of marine mammal carcass disposal at sea are minimal and that marine mammal carcasses often must be disposed of in emergency situations to mitigate threats to public safety (e.g., recreational uses in nearby waters) as well as risks of navigation hazards. As such, issuance of a general permit is appropriate under the MPRSA.

Authorization under Section A of the general permit is available to federal, state, and local government officials and employees acting in the course of official duties and to MMHSRP Stranding Agreement Holders. Section A authorizes such persons to transport and dispose of marine mammal carcasses in ocean waters. Section A requires that each such general permittee consult with the MMHSRP of NMFS—and recommends that each such general permittee consults with the applicable USCG District Office—prior to initiating any ocean disposal activities with respect to a marine mammal carcass. General permittees authorized under Section A must consult with and obtain concurrence from the applicable EPA Regional Office on selection of a disposal site, which must be seaward of the three mile territorial sea lines demarcated on nautical charts, and submit a report to the applicable EPA Regional Office on the ocean disposal activities.

Alaskan Natives engaged in subsistence uses are not required to, but may, transport and dispose of marine mammal carcasses in ocean waters. When disposal in ocean waters is the selected disposal approach, Section B of the general permit authorizes any Alaskan Native engaged in subsistence uses to transport and dispose of a marine mammal carcass in ocean waters. Under Section B, the Alaskan Native general permittee selects an ocean disposal site sufficiently far offshore so that currents and winds are not expected to return the carcass to shore and the carcass is not expected to pose a hazard to navigation and afterwards submits an annual report to EPA Region 10 on ocean disposal activities conducted in the prior calendar year. Section B does not require a statement of need for selecting ocean disposal nor does it specify a distance requirement. The State of Alaska has waived certification under Clean Water Act Section 401 for the Section B authorization.

X. Response to Comments Received

The EPA received seven comments during the public comment period. The EPA agrees with several of the recommendations received via the public comment process. As a consequence, the EPA has made several changes to the general permit.

In response to comments, the EPA added language to the General Information section to clarify that the general permit does not require ocean disposal of marine mammal carcasses. In addition, the EPA revised the requirements of Section A(2) regarding concurrence on the ocean disposal site. Because the presence of a marine mammal carcass near human habitation or recreation areas may pose a time-critical public safety issue, the requirement to obtain concurrences from multiple agencies might unnecessarily delay the disposal. In response to comments and in order to expedite ocean disposals in time-critical public safety situations, the general permittee authorized under Section A need only obtain concurrences from the appropriate EPA Regional Office and such concurrence may initially be provided via telephone. Finally, the EPA revised the reporting requirements of Section B applicable to Alaskan Natives engaged in subsistence uses. Under revisions to Section B, an Alaskan Native permittee may provide reports to EPA Region 10 on an annual basis. The EPA's intention regarding annual reporting for Section B permittees is to mitigate any potential burden on Alaskan Natives engaged in subsistence uses who may dispose of marine mammal carcasses in the ocean.

XI. Statutory and Executive Order Reviews

A. Paperwork Reduction Act

The information collections under this general permit are covered under the MPRSA Information Collection Request (ICR) that has been submitted for approval to the Office of Management and Budget (OMB) under the Paperwork Reduction Act. The ICR document that the EPA prepared for all of MPRSA activities has been assigned EPA ICR number 0824.06.

Section 104(e) of the MPRSA authorizes the EPA to collect information to ensure that ocean dumping is appropriately regulated and will not harm human health or the marine environment, based on applying the Ocean Dumping Criteria. To meet United States' reporting obligation under the London Convention, the EPA also reports some of this information in the annual United States Ocean Dumping Report, which is sent to the International Maritime Organization.

Respondents/affected entities: Any officer, employee, agent, department, agency, or instrumentality of federal, state, tribal, or local unit of government, as well as any MMHSRP Stranding Agreement Holder, and any Alaskan Native engaged in subsistence uses who disposes of a marine mammal carcass in ocean waters will be affected by the general permit. Under this general permit, respondents do not need to request permit authorization because the general permit already authorizes ocean disposal of a marine mammal carcass by an eligible person.

Respondent's obligation to respond: Pursuant to 40 CFR 221.1-221.2, the EPA requires all ocean dumping permittees to supply specified reporting information.

B. Executive Order 13175: Consultation and Coordination With Indian Tribal Governments

This action has tribal implications. However, the general permit will neither impose substantial direct compliance costs on federally recognized tribal governments, nor preempt tribal law. The general permit has tribal implications because it may affect traditional practices of some tribes.

Dated: November 23, 2016.
Marcus Zobrist,
Acting Director, Oceans and Coastal Protection Division, Office of Wetlands, Oceans and Watersheds, Office of Water, Environmental Protection Agency.

General Permit for Ocean Disposal of Marine Mammal Carcasses

A. General Requirements for Governmental Entities and Stranding Agreement Holders

Except as provided in Section B below, any officer, employee, agent, department, agency, or instrumentality of federal, state, tribal, or local unit of government, and any MMHSRP Stranding Agreement Holder, is hereby granted a general permit to transport and dispose of marine mammal carcasses in ocean waters subject to the following conditions:

1. The permittee shall consult with the MMHSRP of NMFS prior to initiating any disposal activities. A fact sheet containing points of contact at MMHSRP is available at http://www.epa.gov/ocean-dumping/ocean-disposal-marine-mammal-carcasses.

2. A disposal site must be seaward of the three mile territorial sea demarcated on nautical charts. The permittee shall consult with and obtain written concurrence (via email or letter) from the applicable EPA Regional Office on ocean disposal site selection. Because the presence of a marine mammal carcass near human habitation or recreation areas may pose a time-critical public safety issue, the permittee may obtain concurrence via telephone from the applicable EPA Regional Office provided that the permittee subsequently obtains written concurrence (via email or letter). A fact sheet containing points of contact at EPA is available at http://www.epa.gov/ocean-dumping/ocean-disposal-marine-mammal-carcasses.

3. If a determination is made that the carcass must be sunk, rather than released at the disposal site, the transportation and disposal of materials necessary to ensure the sinking of the carcass are also authorized for ocean dumping under this general permit. When materials are to be used to sink the carcass, the permittee must first consult with and obtain written concurrence (via email or letter) from the applicable EPA Regional Office on the selection of materials. Any materials described in 40 CFR 227.5 (prohibited materials) or 40 CFR 227.6 (constituents prohibited as other than trace amounts) shall not be used. The transportation and dumping of any materials other than the materials necessary to ensure the sinking of the carcass are not authorized under this general permit and constitute a violation of the MPRSA. Because the presence of a marine mammal carcass near human habitation or recreation areas may pose a time-critical public safety issue, the permittee may obtain concurrence via telephone from the applicable EPA Regional Office provided that the permittee subsequently obtains written concurrence (via email or letter).

4. The permittee shall submit a report on the ocean disposal activities authorized by this general permit to the applicable EPA Regional Office within 30 days after carcass disposal. This report shall include:

a. A description of the carcass(es) disposed;

b. The date and time of the disposal as well as the latitude and longitude of the disposal site. Latitude and longitude of the disposal site shall be reported at the highest degree of accuracy available on board the vessel or vehicle that transported the carcass (e.g., onboard geographic position system technology);

c. The name, title, affiliation, and contact information of the person in charge of the disposal operation and the person in charge of the vessel or vehicle that transported the carcass (if different than the person in charge of the disposal);

d. A statement of need and rationale for selecting ocean disposal rather than other disposal options; and

5. The permittee shall immediately notify EPA of any violation of any condition of this general permit.

B. Requirements for any Alaskan Native Engaged in Subsistence Uses

Notwithstanding Section A, any Alaskan Native engaged in subsistence uses is hereby granted a general permit to transport and dispose of marine mammal carcasses in ocean waters subject to the following conditions:

1. The permittee shall submit a report (via email or letter) on all disposal activities authorized by this general permit that the permittee has conducted in the prior calendar year. Reports shall be submitted to EPA Region 10 within 30 days of the end of the calendar year. A fact sheet containing contact information for EPA Region 10 is available at http://www.epa.gov/ocean-dumping/ocean-disposal-marine-mammal-carcasses. This report shall include:

a. The number and type of carcasses disposed;

b. A description of the general vicinity in which the carcasses were disposed; and

c. The name and contact information of the permittee.

2. Where ocean disposal is the selected approach, marine mammal carcasses must be towed or otherwise transported to a site offshore where, based on available information, which may include local or traditional knowledge, currents and winds are not expected to return the carcass to shore and the carcass is not expected to pose a hazard to navigation.

[FR Doc. 2016-29250 Filed 12-5-16; 8:45 am]

BILLING CODE 6560-50-P